FEDERAL ELECTION COMMISSION

[Notice 2008-10]

Filing Dates for the Ohio Special Election in the 11th Congressional District

AGENCY: Federal Election Commission.

ACTION: Notice of filing dates for special election.

SUMMARY: Ohio has scheduled elections on October 14, 2008, and November 18, 2008, to fill the U.S. House of Representatives seat in the Eleventh Congressional District held by the late Representative Stephanie Tubbs Jones.

Committees required to file reports in connection with the Special Primary Election on October 14, 2008, shall file a 12-day Pre-Primary Report. Committees required to file reports in connection with both the Special Primary and Special General Election on November 18, 2008, shall file a 12-day Pre-Primary Report, a 12-day Pre-General Report, and a 30-day Post-General Report.

FOR FURTHER INFORMATION CONTACT: Mr. Kevin R. Salley, Information Division, 999 E Street, NW., Washington, DC 20463; Telephone: (202) 694-1100; Toll Free (800) 424-9530.

SUPPLEMENTARY INFORMATION:

Principal Campaign Committees

All principal campaign committees of candidates who participate in the Ohio Special Primary and Special General Elections shall file a 12-day Pre-Primary Report on October 2, 2008; a 12-day Pre-General Report on November 6, 2008; and a 30-day Post-General Report on December 18, 2008. (See chart below for the closing date for each report).

All principal campaign committees of candidates participating only in the Special Primary Election shall file a 12-day Pre-Primary Report on October 2, 2008. (See chart below for the closing date for each report).

Unauthorized Committees (PACs and Party Committees)

Political committees filing on a quarterly basis in 2008 are subject to special election reporting if they make previously undisclosed contributions or expenditures in connection with the Ohio Special Primary or Special General Elections by the close of books for the applicable report(s). (See chart below for the closing date for each report).

Committees filing monthly that support candidates in the Ohio Special Primary or Special General Elections should continue to file according to the monthly reporting schedule.

Additional disclosure information in connection with the Ohio Special Election may be found on the FEC Web site at http://www.fec.gov/info/report_dates.shtml.

Calendar of Reporting Dates for Ohio Special Election
Report | Close of books ¹ | Reg./cert. and overnight mailing deadline | Filing deadline
Committees Involved in Only the Special Primary (10/14/08) Must File:
Pre-Primary | 09/24/08 | 09/29/08 | 10/02/08
October Quarterly | 09/30/08 | 10/15/08 | 10/15/08
Committees Invovled in Both the Special Primary (10/14/08) and Special General (11/18/08) Must File:
Pre-Primary | 09/24/08 | 09/29/08 | 10/02/08
October Quarterly | 09/30/08 | 10/15/08 | 10/15/08
Pre-General | 10/29/08 | 11/03/08 | 11/06/08
Post-General | 12/08/08 | 12/18/08 | 12/18/08
Year-End | 12/31/08 | 01/31/09 | ² 01/31/09
Committees Involved in Only the Special General (11/18/08) Must FIle:
Pre-General | 10/29/08 | 11/03/08 | 11/06/08
Post-General | 12/08/08 | 12/18/08 | 12/18/08
Year-End | 12/31/08 | 01/31/09 | ² 01/31/09
¹ The reporting period always begins the day after the closing date of the last report filed. If the committee is new and has not previously filed a report, the first report must cover all activity that occurred before the committee registered up through the close of books for the first report due.
² Notice that this filing deadline falls on a weekend. Filing deadlines are not extended when they fall on nonworking days. Accordingly, reports filed by methods other than Registered, Certified or Overnight Mail, or electronically, must be received before the Commission's close of business on the last business day before the deadline.

On behalf of the Commission,
Dated: September 4, 2008.
Ellen L. Weintraub,
Commissioner, Federal Election Commission.

[FR Doc. E8-20936 Filed 9-9-08; 8:45 am]

BILLING CODE 6715-01-P